DEPARTMENT OF DEFENSE

Department of the Army; Corps of Engineers

Intent To Prepare a Draft Environmental Impact Statement for the Everglades National Park Seepage Management Project, Miami-Dade County, FL

AGENCY: Department of the Army, U.S. Army Corps of Engineers, DOD.

ACTION: Notice of intent.

SUMMARY: The U.S. Army Corps of Engineers (Corps), Jacksonville District, intends to prepare an integrated Project Implementation Report/Draft Environmental Impact Statement (PIR/DEIS) for the Everglades National Park (ENP) Seepage Management Project. The study is a cooperative effort between the Corps and the South Florida Water Management District (SFWMD), which is also a cooperating agency for this DEIS. The project seeks to reduce eastward water seepage from the Everglades system for the benefit of wetland communities within ENP. The ENP Seepage Management Project is comprised of three components that were recommended as a part of the Central and Southern Florida (C&SF) Project Comprehensive Review Study Feasibility Report and Integrated Environmental Impact Statement (EIS) dated April 1999 (Restudy), and is part of the Comprehensive Everglades Restoration Plan (CERP). The project includes an aboveground recharge area, a wetland buffer area, relocation and enhancement of levee L-31N, a sheetflow delivery system, and other features located adjacent to ENP in Miami-Dade County.

FOR FURTHER INFORMATION CONTACT: U.S. Army Corps of Engineers, Planning Division, Environmental Branch, P.O. Box 4970, Jacksonville, FL, 32232-0019; Attn: Mr. Ernest Clarke or by telephone at 904-232-1199 or e-mail at ernest.clarke@saj02.usace.army.mil.

SUPPLEMENTARY INFORMATION: a. Authorization: The authority for this project is contained within the Water Resources Development Act (WRDA) 2000.

b. Study Area: The study area is along a portion of the L-30 and L-31N canals located north of structure G-211, south of structure S-335, and west of structure S-380 in Miami-Dade County.

c. Project Scope: The scope includes conducting a watershed assessment of the study area and developing alternative plans for reducing seepage from ENP. The assessment will refine project components developed in the Restudy. The evaluation of the alternatives and selection of a recommended plan will be documented in the PIR/EIS. The alternative plans will be reviewed under provisions of appropriate laws and regulations, including the Endangered Species Act, Fish and Wildlife Coordination Act, Clean Water Act, and Farmland Protection Policy Act.

d. Preliminary Alternatives: The ENP Seepage Management Project includes three components of the C&SF Restudy: (1) S-356 Structures, (2) L-31N Improvements for Seepage Management, and (3) Bird Drive Recharge Area. The project described in the Restudy includes an aboveground recharge area, a wetland buffer area, relocation and enhancement of levee-canal L-31N, a sheetflow delivery system, and other features located adjacent to ENP in Miami-Dade County. Further formulation will determine the locations, sizes, configurations, and operations of facilities.

e. Issues: The EIS will address the following issues: the relation between this project and related projects including Modified Water Deliveries to ENP; impacts to Miami-Dade West Wellfield and Biscayne Bay, impacts to aquatic and wetland habitats; water flows; hazardous and toxic waste; water quality; flood protection; the impacts of land acquisition on the tax base; aesthetics and recreation; fish and wildlife resources, including protected species; cultural resources; and other impacts identified through scoping, public involvement and interagency coordination.

f. Scoping: A scoping letter and multiple public workshops will be used to invite comments on alternatives and issues from Federal, State, and local agencies, affected Indian tribes, and other interested private organizations and individuals. Additionally, a scoping meeting will be held on March 14, 2006 in Miami-Dade Fire Rescue Auditorium, 9300 NW., 41st Street, Miami, FL 33178. Additional public meetings are anticipated during the study. The exact location, dates, and times of future meetings will be announced in public notices and local newspapers.

g. DEIS Preparation: The integrated PIR, including a DEIS, is currently estimated for publication in September 2008.

Dated: February 10, 2006.
Marie G. Burns
Chief, Environmental Branch.

[FR Doc. 06-1727 Filed 2-23-06; 8:45 am]

BILLING CODE 3710-AJ-M